ENVIRONMENTAL PROTECTION AGENCY

[ER-FRL-6251-7]

Environmental Impact Statements and Regulations; Availability of EPA Comments

Availability of EPA comments prepared February 14, 2000 Through February 18, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 9, 1999 (63 FR 17856).

Draft EISs

ERP No. D-AFS-J65310-00 Rating EC2, Dakota Prairie Grasslands, Nebraska National Forest Units and Thunder Basin National Grassland, Land and Resource Management Plans 1999 Revisions, Implementation, MT, NB, WY, ND and SD.

Summary: EPA expressed concern that as the public dialogue takes place on roadless areas that an interim plan be in place that reserves current roadless areas until a plan is in place. EPA requested that a section be added to discuss the government-to-government consultation process with affected Indian Tribes and that stipulations on oil and gas leases require pits to be netted. EPA also suggested that portions of the Little Missouri River that course through the Grasslands be proposed for scenic and/or wild designation.

ERP No. D-AFS-K65224-AZ Rating EC2, Williams Ski Area Expansion on Bill Williams Mountain, Implementation, Special-Use-Permit, Kaibab National Forest, Williams Ranger District, Coconino County, AZ.

Summary: EPA expressed concerns with the potential for the proposed project to impact water and cultural resources. EPA requested that the FEIS more thoroughly address those issues and discuss the consultation process with affected tribes.

ERP No. D-BLM-K39058-CA Rating EO2, Cadiz Groundwater Storage and Dry-Year Supply Program, Construction and Operation, Amendment of the California Desert Conservation Area (CDCA) Plan, Issuance of Right-of-Way Grants and Permits, San Bernardino County, CA.

Summary: EPA objected to the project based on the potential significant impacts and the lack of an air conformity determination. The project would also adversely affect many ephemeral washes and other sensitive habitats, but mitigation measures do not appear sufficient to protect resources. EPA recommended that a draft conformity determination be issued prior to issuance of the FEIS.

ERP No. D-BOP-E80002-SC Rating EC2, South Carolina—Federal Correctional Institution, Construct and Operate, Possible Sites: Andrew, Bennettsville, Oliver and Salters, SC.

Summary: EPA expressed concern regarding potential wetland impacts and requested that additional information be included in the Final EIS.

ERP No. D-FAA-F51046-MN Rating EC2, Flying Cloud Airport Expansion, Extension of the Runways 9R/27L and 9L/27R, Long-Term Comprehensive Development, In the City of Eden Prairie, Hennepin County, MN.

Summary: EPA requested additional information on noise mitigation to assure that residents of Eden Prairie and the resources of the Minnesota Valley National Wildlife Refuge are adequately protected.

ERP No. D-SFW-K05056-CA Rating EC2, High Desert Power Project, Construction and Operation, A Combined-Cycle Natural Gas-Fueled Electrical Generation Power Planet, Approval of Incidental Taking Authorization under Sections 7 and 10 of the Federal ESA, San Bernardino County, CA.

Summary: EPA expressed concern with the High Desert Power Project (HDPP) due to the need to characterize the trichloroethane (TCE) groundwater plume under the power plant site prior to the plant's design and construction and potential UIC permit requirements. EPA urged selection of the power plant without the 32-mile natural gas pipeline, given the potential adverse effects of the pipeline on special status species and the expectation of sufficient natural gas from the 3.5 mile pipline.

Final EIS

ERP No. F-BIA-K61146-CA Programmatic—Cabazon Resource Recovery Park Section 6 General Plan, Implementation, Approval of Master Lease and NPDES Permit, Mecca, CA.

Summary: EPA had no major objections to the EIS but requested that BIA's Record of Decision reflect the commitments found in the FEIS, especially for mitigation measures.

Dated: February 29, 2000.
B. Katherine Biggs,
Associate Director.

[FR Doc. 00-5198 Filed 3-2-00; 8:45 am]

BILLING CODE 6560-50-U